DEPARTMENT OF AGRICULTURE

Forest Service

Olympic Peninsula Resource Advisory Committee

AGENCY: Forest Service, USDA.

ACTION: Outreach for new RAC members.

SUMMARY: Interested citizens are invited to serve on the Olympic Peninsula Resource Advisory Committee (RAC). The RAC will be responsible for reviewing and recommending land management projects to be funded under the Secure Rural Schools and Community Self-Determination Act, should the act be reauthorized this year.

RAC members represent a wide range of interests. The committee consists of 15 members and each member is assigned to one of three categories. The Olympic Peninsula RAC has vacancies in all three categories.

• Category A represents organized labor, developed outdoor recreation, off-highway vehicle use, commercial recreation activities, energy development interests, the commercial timber industry, and Federal grazing or other land use permits.

• Category B represents nationally recognized environmental organizations, regionally or locally recognized environmental organizations, dispersed recreational activities, archaeological and historical interests.

• Category C represents state, county, or local elected offices, American Indian tribes, school officials or teachers, and the affected public-at-large.

A four-year term would begin upon appointment by the Secretary of Agriculture. Committee members serve without compensation, but may be reimbursed for travel expenses. Members must be Washington residents, preferably living in one of the Olympic Peninsula counties. Meetings are held at least once and up to four times per year within Thurston, Mason, Jefferson, Clallam, or Grays Harbor Counties.

Interested participants should submit the required AD 755 application, available on the forest's Web site at http://www.fs.usda.gov/main/olympic/workingtogether/advisorycommittees.

DATES: All applications must be received at the Olympic National Forest Supervisor's Office by November 30, 2012.

ADDRESSES: Please mail all AD 755 forms to: Olympic National Forest, 1835 Black Lake Blvd. SW., Olympia, WA 98512, Attention: Grace Haight.

FOR FURTHER INFORMATION CONTACT: For additional information, please contact Donna Nemeth at 360-956-2274 or Bill Shelmerdine at 360-956-2282.

Dated: October 15, 2012.
Reta Laford,
Forest Supervisor, Olympic National Forest.

[FR Doc. 2012-26351 Filed 10-25-12; 8:45 am]

BILLING CODE 3410-11-P